DEPARTMENT OF TRANSPORTATION

Federal Railroad Administration

[Docket Number FRA-2009-0052]

Petition for Waiver of Compliance

In accordance with Part 211 of Title 49 of the Code of Federal Regulations (CFR), this document provides the public notice that by a document dated June 3, 2011, the Norfolk Southern Corporation (NS) has petitioned the Federal Railroad Administration (FRA) for an extension of the relief previously granted under Docket Number FRA-2009-0052. The original request granted conditional approval on September 29, 2009, for relief from requirements of the Rules, Standards and Instructions, Title 49 CFR Part 236, 236.586—Daily or after trip test.

NS requested a waiver from compliance with § 236.586 Daily or after trip test in its entirety for locomotives equipped with UltraCab equipment.

Applicant's justification for the extension: Over the past 19 months, NS has not seen any notable increase or decrease in locomotive shoppings as a result of not performing a daily or after-trip test while operating locomotives in cab signal territory.

NS further request that they be allowed to conduct the currently required quarterly performance review on a semi-annual basis, with all other conditions of the September 29, 2009, letter to be abided with.

A copy of the petition, as well as any written communications concerning the petition, is available for review online at http://www.regulations.gov and in person at the Department of Transportation's Docket Operations Facility, 1200 New Jersey Ave., SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal Holidays.

Communications received by August 29, 2011 will be considered by FRA before final action is taken. Comments received after that date will be considered as far as practicable.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78) or online at http://www.dot.gov/privacy.html.

Issued in Washington, D.C. on July 7, 2011.
Robert C. Lauby,
Deputy Associate Administrator for Regulatory & Legislative Operations.

[FR Doc. 2011-17680 Filed 7-13-11; 8:45 am]

BILLING CODE 4910-06-P